DEPARTMENT OF AGRICULTURE

Agricultural Marketing Service

7 CFR Part 1150

[Document No. AMS-DA-15-0068]

National Dairy Promotion and Research Program

AGENCY: Agricultural Marketing Service, USDA.

ACTION: Announcement of finding.

SUMMARY: The Agricultural Marketing Service (AMS) hereby gives notice that no changes will be made to the current distribution of domestic National Dairy Promotion and Research Board (Dairy Board) members in 12 regions as outlined in Section 1150.131(b) of the Dairy Research and Promotion Order (Dairy Order). The Dairy Order provides that the Dairy Board shall review the geographic distribution of milk production throughout the United States (U.S.) and, if warranted, shall recommend to the Secretary a reapportionment of the regions and/or modification of the number of domestic members from the regions in order to better reflect the geographic distribution of milk production volumes in the U.S. The number of domestic Dairy Board members was last modified in 2011 based on 2010 U.S. milk production.

DATES: Effective date: September 13, 2016.

FOR FURTHER INFORMATION CONTACT: Jill Hoover, Deputy Director, Promotion, Research, and Planning Division, Dairy Program, AMS, USDA, 1400 Independence Ave. SW., Room 2958-S, Stop 0233, Washington, DC 20250-0233. Phone: (202) 720-6909. Email: Jill.Hoover@ams.usda.gov.

SUPPLEMENTARY INFORMATION: The Dairy Production Stabilization Act of 1983 authorizes a national program for dairy product promotion, research and nutrition education. Congress found that it is in the public interest to authorize the establishment of an orderly procedure for financing (through assessments on all milk produced in the U.S. for commercial use and on imported dairy products) and carrying out a coordinated program of promotion designed to strengthen the dairy industry's position in the marketplace and to maintain and expand domestic and foreign markets and uses for fluid milk and dairy products.

Section 1150.131 of the Dairy Order (7 CFR 1150.131) provides that the Dairy Board shall review the geographic distribution of milk production throughout the U.S. and, if warranted, shall recommend to the Secretary a reapportionment of the regions and/or modification of the number of members from the regions in order to better reflect the geographic distribution of milk production volume in the U.S. The Dairy Order is administered by a 37-member Dairy Board, 36 members representing 12 geographic regions within the U.S. and 1 representing importers. The number of domestic Dairy Board members was last modified in 2011 based on 2010 U.S. milk production.

Based on a review of the 2014 geographic distribution of milk production, the Dairy Board has concluded that the number of Dairy Board members and regions represented should be maintained. This finding was submitted by the Dairy Board, which administers the Dairy Order.

In 2014, total milk production was 206,586 million pounds and each of the Dairy Board members would represent 5,738.5 million pounds of milk. Table 1 summarizes by region, the volume of milk production distribution for 2014, the percentage of total milk production, and the regions and number of Dairy Board seats for each region.

Table 1—Regions and Number of Board Seats
Regions and states | Milk production (mil. lbs.) | Percentage of total milk production | Current number of board seats
1. Alaska, Oregon, Washington | 9,142.5 | 4.4 | 2
2. California, Hawaii | 42,366.9 | 20.5 | 7
3. Arizona, Colorado, Montana, Nevada, Utah, Wyoming | 11,594.5 | 5.6 | 2
4. Arkansas, Kansas, New Mexico, Oklahoma, Texas | 22,319 | 10.8 | 4
5. Minnesota, North Dakota, South Dakota | 11,560 | 5.6 | 2
6. Wisconsin | 27,795 | 13.5 | 5
7. Illinois, Iowa, Missouri, Nebraska | 9,074 | 4.4 | 2
8. Idaho | 13,873 | 6.7 | 2
9. Indiana, Michigan, Ohio, West Virginia | 19,066 | 9.2 | 3
10. Alabama, District of Columbia, Florida, Georgia, Kentucky, Louisiana, Mississippi, North Carolina, Puerto Rico, South Carolina, Tennessee, Virginia | 9,986.9 | 4.8 | 2
11. Delaware, Maryland, New Jersey, Pennsylvania | 11,893.7 | 5.8 | 2
12. Connecticut, Maine, Massachusetts, New Hampshire, New York, Rhode Island, Vermont | 17,914.1 | 8.7 | 3
Total | 206,586 | 100 | 36
* Milk Production, Disposition, and Income, 2014 Summary, NASS, 2015.
** Puerto Rico—2012 Census of Agriculture, Puerto Rico, Island and Municipio Data, NASS, 2014.

As described in this Federal Register document, the current distribution of domestic Dairy Board members in 12 regions, as outlined in Section 1150.131(b) of the Dairy Order, will be maintained.

Dated: September 7, 2016.
Dana Coale,
Associate Administrator.

[FR Doc. 2016-21841 Filed 9-12-16; 8:45 am]

BILLING CODE 3410-02-P